DEPARTMENT OF TRANSPORTATION

Federal Aviation Administration

14 CFR Part 97

[Docket No. 31091; Amdt. No. 3709]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 25, 2016. The compliance date for each SIAP, associated Takeoff Minimums, and ODP is specified in the amendatory provisions.

The incorporation by reference of certain publications listed in the regulations is approved by the Director of the Federal Register as of August 25, 2016.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on August 12, 2016.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 15 September 2016

Clanton, AL, Chilton County, NDB OR GPS RWY 26, Orig-A, CANCELED

Clanton, AL, Chilton County, RNAV (GPS) RWY 8, Orig

Clanton, AL, Chilton County, RNAV (GPS) RWY 26, Orig

Clanton, AL, Chilton County, Takeoff Minimums and Obstacle DP, Amdt 1

Palm Springs, CA, Bermuda Dunes, BERMUDA DUNES ONE Graphic DP

San Diego/El Cajon, CA, Gillespie Field, LOC-D, Amdt 11C

Torrance, CA, Zamperini Field, ILS OR LOC RWY 29R, Amdt 3

Torrance, CA, Zamperini Field, RNAV (GPS) RWY 11L, Amdt 1

Torrance, CA, Zamperini Field, RNAV (GPS) RWY 29R, Amdt 1

Torrance, CA, Zamperini Field, VOR RWY 11L, Amdt 16

Van Nuys, CA, Van Nuys, ILS Z RWY 16R, Amdt 1

Miami, FL, Miami Intl, ILS OR LOC RWY 9, Amdt 10

St Petersburg-Clearwater, FL, St Pete-Clearwater Intl, ILS OR LOC RWY 18, ILS RWY 18 (SA CAT I), ILS RWY 18 (CAT II), Orig

Albany, GA, Southwest Georgia Rgnl, RNAV (GPS) RWY 4, Amdt 1A

Albany, GA, Southwest Georgia Rgnl, RNAV (GPS) RWY 16, Amdt 1A

Albany, GA, Southwest Georgia Rgnl, RNAV (GPS) RWY 22, Amdt 1A

Albany, GA, Southwest Georgia Rgnl, RNAV (GPS) RWY 34, Amdt 2A

Lawrenceville, GA, Gwinnett County—Briscoe Field, RNAV (GPS) RWY 25, Orig-D

Thomson, GA, Thomson-McDuffie County, Takeoff Minimums and Obstacle DP, Amdt 2

Chicago, IL, Chicago O'Hare Intl, ILS OR LOC RWY 14L, ILS RWY 14L (CAT II & III), Amdt 29D, CANCELED

Chicago, IL, Chicago O'Hare Intl, ILS OR LOC RWY 15, Amdt 30D

Chicago, IL, Chicago O'Hare Intl, ILS OR LOC RWY 32R, Amdt 21E, CANCELED

Chicago, IL, Chicago O'Hare Intl, RNAV (GPS) RWY 14L, Amdt 1F, CANCELED

Chicago, IL, Chicago O'Hare Intl, RNAV (GPS) RWY 15, Amdt 2D

Chicago, IL, Chicago O'Hare Intl, RNAV (GPS) RWY 32R, Amdt 1B, CANCELED

Chicago, IL, Chicago O'Hare Intl, Takeoff Minimums and Obstacle DP, Amdt 20A

Nantucket, MA, Nantucket Memorial, ILS OR LOC RWY 6, Amdt 2

Nantucket, MA, Nantucket Memorial, ILS OR LOC RWY 24, Amdt 16

Nantucket, MA, Nantucket Memorial, RNAV (GPS) RWY 6, Amdt 1

Nantucket, MA, Nantucket Memorial, RNAV (GPS) RWY 24, Amdt 1

Battle Creek, MI, W K Kellog, ILS OR LOC RWY 23R, Amdt 19

Battle Creek, MI, W K Kellog, NDB RWY 23R, Amdt 19

Raymond, MS, John Bell Williams, ILS OR LOC RWY 12, Amdt 1C

Raymond, MS, John Bell Williams, NDB RWY 12, Amdt 3B, CANCELED

Aurora, NE., Aurora Muni—Al Potter Field, VOR-A, Amdt 6B

Chappell, NE., Billy G Ray Field, NDB OR GPS RWY 30, Amdt 2B

Sidney, NE., Sidney Muni/Lloyd W Carr Field, RNAV (GPS) RWY 13, Amdt 2A

Sidney, NE., Sidney Muni/Lloyd W Carr Field, RNAV (GPS) RWY 31, Amdt 2A

York, NE., York Muni, NDB RWY 17, Amdt 6A

York, NE., York Muni, NDB RWY 35, Amdt 4B

Newark, NJ, Newark Liberty Intl, RNAV (GPS) Z RWY 22L, Amdt 2

Newark, NJ, Newark Liberty Intl, RNAV (RNP) Y RWY 22L, Amdt 1

Albuquerque, NM, Double Eagle II, ILS OR LOC RWY 22, Amdt 3

Albuquerque, NM, Double Eagle II, RNAV (GPS) RWY 4, Orig

Albuquerque, NM, Double Eagle II, RNAV (GPS) RWY 22, Amdt 1

Newport, OR, Newport Muni, VOR RWY 34, Amdt 2

Harrisburg, PA, Harrisburg Intl, VOR RWY 31, Amdt 2B

Highmore, SD, Highmore Muni, RNAV (GPS) RWY 13, Orig

Highmore, SD, Highmore Muni, RNAV (GPS) RWY 31, Orig

Highmore, SD, Highmore Muni, Takeoff Minimums and Obstacle DP, Orig

Brownsville, TX, Brownsville/South Padre Island Intl, ILS OR LOC RWY 13, Orig

Brownsville, TX, Brownsville/South Padre Island Intl, ILS OR LOC RWY 13R, Amdt 1B, CANCELED

Brownsville, TX, Brownsville/South Padre Island Intl, LOC BC RWY 31, Orig

Brownsville, TX, Brownsville/South Padre Island Intl, LOC BC RWY 31L, Amdt 11E, CANCELED

Brownsville, TX, Brownsville/South Padre Island Intl, RNAV (GPS) RWY 13, Orig

Brownsville, TX, Brownsville/South Padre Island Intl, RNAV (GPS) RWY 13R, Amdt 2A, CANCELED

Brownsville, TX, Brownsville/South Padre Island Intl, RNAV (GPS) RWY 17, Orig-A, CANCELED

Brownsville, TX, Brownsville/South Padre Island Intl, RNAV (GPS) RWY 18, Orig

Brownsville, TX, Brownsville/South Padre Island Intl, VOR/DME RNAV OR GPS RWY 35, Amdt 3A, CANCELED

Haskell, TX, Haskell Muni, NDB OR GPS RWY 18, Amdt 2B, CANCELED

Haskell, TX, Haskell Muni, RNAV (GPS)-A, ORIG

Houston, TX, Ellington, ILS OR LOC RWY 17R, Amdt 6B

Houston, TX, George Bush Intercontinental/Houston, ILS OR LOC RWY 27, ILS RWY 27 (SA CAT I), ILS RWY 27 (CAT II), ILS RWY 27 (CAT III), Amdt 11

Houston, TX, George Bush Intercontinental/Houston, RNAV (GPS) Z RWY 27, Amdt 5

Houston, TX, George Bush Intercontinental/Houston, RNAV (RNP) Y RWY 27, Amdt 2

Franklin, VA, Franklin Muni-John Beverly Rose, RNAV (GPS) RWY 9, Amdt 1B

Franklin, VA, Franklin Muni-John Beverly Rose, RNAV (GPS) RWY 27, Amdt 1B

Franklin, VA, Franklin Muni-John Beverly Rose, Takeoff Minimums and Obstacle DP, Amdt 2A

Lawrenceville, VA, Lawrenceville/Brunswick Muni, RNAV (GPS) RWY 18, Orig-A, CANCELED

Lawrenceville, VA, Lawrenceville/Brunswick Muni, RNAV (GPS) RWY 36, Orig-A, CANCELED

Lawrenceville, VA, Lawrenceville/Brunswick Muni, RNAV (GPS)-A, Orig

Lawrenceville, VA, Lawrenceville/Brunswick Muni, RNAV (GPS)-B, Orig

West Point, VA, Middle Peninsula Rgnl, LOC RWY 10, Orig

West Point, VA, Middle Peninsula Rgnl, RNAV (GPS) RWY 10, Amdt 1A

West Point, VA, Middle Peninsula Rgnl, RNAV (GPS) RWY 28, Orig-D

West Point, VA, Middle Peninsula Rgnl, VOR-A, Amdt 4A

RESCINDED: On August 4, 2016 (81 FR 51339), the FAA published an Amendment in Docket No. 31085, Amdt No. 3703 to Part 97 of the Federal Aviation Regulations. The following entry, effective September 15, 2016, is hereby rescinded in its entirety:

Arcata/Eureka, CA, Arcata, VOR/DME RWY 1, Amdt 8A, CANCELED

Bishop, CA, Bishop, VOR/DME OR GPS-B, Amdt 4B, CANCELED

Ruston, LA, Ruston Rgnl, NDB RWY 36, Orig-A, CANCELED

Corvallis, OR, Corvallis Muni, Takeoff Minimums and Obstacle DP, Amdt 6A

Morgantown, WV, Morgantown Muni-Walter L Bill Hart Fld, VOR-A, Amdt 13, CANCELED

RESCINDED: On August 4, 2016 (81 FR 51332), the FAA published an Amendment in Docket No. 31087, Amdt No. 3705 to Part 97 of the Federal Aviation Regulations. The following entry, effective September 15, 2016, is hereby rescinded in its entirety:

Kokomo, IN, Kokomo Muni, VOR RWY 23, Amdt 20, CANCELED

Sidney, MT, Sidney-Richland Muni, NDB RWY 1, Amdt 3, CANCELED

[FR Doc. 2016-20295 Filed 8-24-16; 8:45 am]

BILLING CODE 4910-13-P